DEPARTMENT OF ENERGY

Federal Energy Regulatory Commission

Combined Notice of Filings #1

Take notice that the Commission received the following electric rate filings:

Docket Numbers: ER17-772-001.

Applicants: Southwest Power Pool, Inc.

Description: Compliance filing: Amended Order No. 825 Compliance Filing to be effective 5/11/2017.

Filed Date: 2/23/17.

Accession Number: 20170223-5064.

Comments Due: 5 p.m. ET 3/16/17.

Docket Numbers: ER17-1013-000.

Applicants: Midcontinent Independent System Operator, Inc.

Description: § 205(d) Rate Filing: 2017-02-22_SA 2998 Exelon-MISO ENRIS (J371) to be effective 2/6/2017.

Filed Date: 2/22/17.

Accession Number: 20170222-5131.

Comments Due: 5 p.m. ET 3/15/17.

Docket Numbers: ER17-1014-000.

Applicants: Midcontinent Independent System Operator, Inc., Otter Tail Power Company.

Description: § 205(d) Rate Filing: 2017-02-22_Revisions to Otter Tail Attachment O and 30.9 Credit to include Basin to be effective 5/1/2017.

Filed Date: 2/22/17.

Accession Number: 20170222-5153.

Comments Due: 5 p.m. ET 3/15/17.

Docket Numbers: ER17-1015-000.

Applicants: Southwestern Public Service Company.

Description: § 205(d) Rate Filing: SPS-RBEC-GSEC-Statford Sub-651-NOC to be effective 2/24/2017.

Filed Date: 2/23/17.

Accession Number: 20170223-5023.

Comments Due: 5 p.m. ET 3/16/17.

Docket Numbers: ER17-1016-000.

Applicants: PJM Interconnection, L.L.C.

Description: § 205(d) Rate Filing: Revisions to OATT Sch 12—Appendix re: BGE Abandonment Cost Recovery to be effective 5/1/2017.

Filed Date: 2/23/17.

Accession Number: 20170223-5026.

Comments Due: 5 p.m. ET 3/16/17.

Docket Numbers: ER17-1017-000.

Applicants: Smoky Mountain Transmission LLC.

Description: Compliance filing: Smoky Mountain Transmission LLC Amendment to Proforma to be effective 2/24/2017.

Filed Date: 2/23/17.

Accession Number: 20170223-5063.

Comments Due: 5 p.m. ET 3/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2017.
Nathaniel J. Davis, Sr.,
Deputy Secretary.

[FR Doc. 2017-03924 Filed 2-28-17; 8:45 am]

BILLING CODE 6717-01-P